NATIONAL FOUNDATION ON THE ARTS AND THE HUMANITIES

Meeting of National Council on the Humanities

AGENCY: National Endowment for the Humanities.

ACTION: Notice of meeting.

SUMMARY: Pursuant to section 10(a)(2) of the Federal Advisory Committee Act (5 U.S.C. App.), notice is hereby given that the National Council on the Humanities will meet for the following purposes: To advise the Acting Chairman of the National Endowment for the Humanities (NEH) with respect to policies, programs and procedures for carrying out her functions; to review applications for financial assistance under the National Foundation on the Arts and Humanities Act of 1965 (20 U.S.C. 951-960, as amended) and make recommendations thereon to the Acting Chairman; and to consider gifts offered to NEH and make recommendations thereon to the Acting Chairman.

DATES: The meeting will be held on Thursday and Friday, November 14-15, 2013, each day from 9:00 a.m. until adjourned.

ADDRESSES: The meeting will be held at the Old Post Office Building, 1100 Pennsylvania Ave. NW., Washington, DC 20506. See Supplementary Information section for room numbers.

FOR FURTHER INFORMATION CONTACT: Lisette Voyatzis, Committee Management Officer, 1100 Pennsylvania Ave. NW., Room 529, Washington, DC 20506, or call (202) 606-8322. Hearing-impaired individuals are advised that information on this matter may be obtained by contacting the National Endowment for the Humanities' TDD terminal at (202) 606-8282. Please provide advance notice of any special needs or accommodations, including for a sign language interpreter.

SUPPLEMENTARY INFORMATION: The Committee meetings of the National Council for the Humanities will be held on November 14, 2013, as follows: The policy discussion session (open to the public) will convene at 9:00 a.m. and last until approximately 10:30 a.m., followed by the discussion of specific grant applications and programs before the Council (closed to the public) from 10:30 a.m. until adjourned.

Challenge Grants: Room 726A.

Digital Humanities: Room 402.

Education Programs: Room M-07.

Federal/State Partnership: Room 507.

Preservation and Access: Room 415.

Public Programs: Room 421.

Research Programs: Room 315.

The Plenary Session of the National Council for the Humanities will convene on November 15, 2013 at 9:00 a.m. in Room M-09. The agenda for the morning session (open to the public) will be as follows:

A. Minutes of the Previous Meeting

B. Reports

1. Introductory Remarks

2. NEH Film Presentation

3. Staff Report

4. Congressional Report

5. Budget Report

6. Reports on Policy and General Matters

a. Challenge Grants

b. Digital Humanities

c. Education Programs

d. Federal/State Partnership

e. Preservation and Access

f. Public Programs

g. Research Programs

The remainder of the Plenary Session will be for consideration of specific applications and therefore will be closed to the public.

As identified above, portions of the meeting of the National Council on the Humanities will be closed to the public pursuant to sections 552b(c)(4), 552b(c)(6) and 552b(c)(9)(b) of Title 5 U.S.C., as amended. The closed sessions will include review of personal and/or proprietary financial and commercial information given in confidence to the agency by grant applicants, and discussion of certain information, the premature disclosure of which could significantly frustrate implementation of proposed agency action. I have made this determination pursuant to the authority granted me by the Chairman's Delegation of Authority to Close Advisory Committee Meetings dated July 19, 1993.

Dated: October 25, 2013.
Lisette Voyatzis,
Committee Management Officer.

[FR Doc. 2013-25927 Filed 10-30-13; 8:45 am]

BILLING CODE 7536-01-P